DEPARTMENT OF THE INTERIOR

Fish and Wildlife Service

Mud Island Addition to Wyandotte National Wildlife Refuge

AGENCY: Fish and Wildlife Service, Interior.

ACTION: Notice.

SUMMARY: The Director of the U.S. Fish and Wildlife Service approved the expansion of the Wyandotte National Wildlife Refuge by accepting the donation of Mud Island, located in the Detroit River, adjacent to Ecorse, Michigan.

DATES: This action was effective on January 5, 2001.

FOR FURTHER INFORMATION CONTACT: Thomas J. Larson, Chief, Ascertainment and Planning Branch, U.S. Fish and Wildlife Service, BHW Federal Building, 1 Federal Drive, Fort Snelling, MN 55111-4056. Telephone 612-713-5430

SUPPLEMENTARY INFORMATION: The authority to accept donation of real property is contained in the Fish and Wildlife Act of 1956 (16 U.S.C. 742f) as amended.

Mud Island will contribute toward the ecosystem goals of the Service by preserving valuable aquatic shoals for the benefit of migratory waterfowl, especially diving ducks, and potential spawning habitat for the lake sturgeon.

Based on the information contained in the decision document, a Categorical Exclusion was signed on November 30, 2000, by the Regional Director. We will expand the Wyandotte National Wildlife Refuge by accepting the donation of Mud Island.

Dated: January 5, 2001.
Jamie Rappaport Clark,
Director, U.S. Fish and Wildlife Service, Washington, DC.

[FR Doc. 01-1181 Filed 1-12-01; 8:45 am]

BILLING CODE 4310-55-P